DEPARTMENT OF EDUCATION

[CFDA No: 84.306S]

Office of Educational Research and Improvement (OERI) Comprehensive School Reform Research Grant Program: Notice of Application Review Procedures for New Awards for Fiscal Year (FY) 2000

SUMMARY: On April 20, 2000, we published in the Federal Register (65 FR 21284) a notice inviting applications for new awards for FY 2000 for the Comprehensive School Reform Research Grant Program. This notice explains the procedures that we will use to review your application.

SUPPLEMENTARY INFORMATION:

Application Review Procedure

We will use a two-tier review process for the new Comprehensive School Reform Research Grant competition for FY 2000. All reviewers will meet the qualifications for reviewers established in the regulations at 34 CFR 700.11. This two-tier process and scoring system are authorized by and in accordance with OERI program regulations in 34 CFR part 700, particularly §§ 700.21 and 700.30.

Tier I. At the Tier I level, your application will be assigned to at least three reviewers, or subpanel members, from the full panel of 12-15 members. Reviewers from each subpanel will evaluate and score applications in accordance with the four selection criteria in the application package:

(1) National Significance. (30 points)

(2) Quality of the Project Design. (35 points)

(3) Quality and Potential Contributions of Personnel. (20 points)

(4) Quality of the Management Plan and Adequacy of Resources. (15 points)

For each application, reviewers will review 50-page narratives, 5-page management plans, 3-page-per-individual biographical sketches, and budget information. In accordance with page limits as described in the closing date notice and application package, all pages in excess of the maximum will be removed unread.

The Tier I reviewers will meet in the Washington, DC metropolitan area, and subpanel members will discuss their assigned applications and their numerical ratings. Following discussion and any re-evaluation and re-rating, reviewers in each subpanel will independently place each application in one of three categories, either “highly recommended,” “recommended” or “not recommended.”

OERI will then calculate the Tier I score for each application by averaging the scores assigned by subpanel members. OERI numerically ranks all applications according to their average score and establishes a cut-off point to determine which applications advance to Tier II. Only those applications with a Tier I score higher than the established cut-off point will advance to Tier II review, with the following exception. All applications that receive a “highly recommended” rating from a majority of subpanel members will advance to Tier II regardless of their average score.

In determining the cut-off point, OERI will consider the following two factors: clear distinctions between clusters of scores as evidenced by gaps in the ranking, and the number of proposals required to ensure a competitive Tier II evaluation.

Tier II. If your application advances to the Tier II level, it will be read, rated, and commented on by all members of the full panel. Each reviewer will independently apply the same selection criteria and scoring system that were used in the Tier I review. After a common discussion of all applications, reviewers will give final numerical ratings and comments. OERI will rank the applications to form the recommended slate. Should there be a number of applications at the cut-off point, then the competitive priority would be applied. In the event of a tie, the Assistant Secretary would determine which application or applications from that group fill the most critical gaps in comprehensive school reform research.

Waiver of Proposed Rulemaking

In accordance with the Administrative Procedure Act (5 U.S.C. 553), it is the practice of the Department to offer interested parties the opportunity to comment on proposed regulations. Section 437(d)(1) of the General Education Provision Act (GEPA), 20 U.S.C. 1232 (d)(1), however, exempts rules that apply to the first competition under a new or substantially revised program from the requirements. Therefore, the Assistant Secretary of OERI, in accordance with section 437 (d)(1) of GEPA, to ensure timely awards, has decided to forego public comment with respect to these procedures. These procedures will apply only to the FY 2000 grant competition.

(The valid OMB control number for this collection of information is 1850-0763.)

FOR FURTHER INFORMATION CONTACT: Debra Hollinger Martinez, Office of Educational Research and Improvement, U.S. Department of Education, 555 New Jersey Avenue, NW, Room 615A, Washington, DC 20208-5521. Telephone: (202) 219-2239. (E-mail: Debra_Hollinger_Martinez@ed.gov). If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document format (PDF) on the Internet at either of the following sites:

http://ocfo.ed.gov/fedreg.htm

http://www.ed.gov/news.html

To use the PDF you must have Adobe Acrobat Reader, which is available free at either of the previous sites. If you have questions about using the PDF, call the U.S. Government Printing Office (GPO) toll free, at 1-888-293-6498; or in the Washington, DC area at (202) 512-1530.

Note: The official version of this document is the document published in the Federal Register. Free Internet access to the official edition of the Federal Register and the Code of Federal Regulations is available on GPO Access at:

http://www.access.gpo.gov/nara/index.html

Program Authority: 20 U.S.C. 6031.

Dated: July 11, 2000.
C. Kent McGuire,
Assistant Secretary for Educational Research and Improvement.

[FR Doc. 00-17926 Filed 7-13-00; 8:45 am]

BILLING CODE 4000-01-P